DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the United States Naval Academy Board of Visitors (“the Board”).

FOR FURTHER INFORMATION CONTACT: James Freeman, Advisory Committee Management Officer for the Department of Defense, 703-692-5952.

SUPPLEMENTARY INFORMATION: This committee's charter is being renewed pursuant to the Federal Advisory Committee Act of 1972 (5 U.S.C. Appendix, as amended), the Government in the Sunshine Act of 1976 (5 U.S.C. 552b) (“the Sunshine Act”), and 41 CFR 102-3.50(d).

The Board is a non-discretionary Federal advisory committee that shall provide independent advice and recommendations to the President of the United States on matters relating to but not limited to morale and discipline, curriculum, instruction, physical equipment, fiscal affairs, academic methods and other matters relating to the United States Naval Academy that the Board decides to consider.

The Board shall visit the Naval Academy annually, and any other official visits by the Board or its members to the Academy, other than the annual visit, shall be made in compliance with the requirements set forth in 10 U.S.C. 6968(d). The Board shall submit a written report to the President of the United States within 60 days after its annual visit to the Naval Academy, to include the Board's views and recommendations pertaining to the Academy, including its advice and recommendations on matters set forth in the paragraph above. Any report of a visit, other than an annual visit, must be made pursuant to 10 U.S.C. 6968(f).

The Board, pursuant to 10 U.S.C. 6968(a), shall be constituted annually and shall be composed of no more than 15 members. The Board membership shall include:

a. The Chairman of the Committee on Armed Services of the Senate, or his designee;

b. Three other members of the Senate designated by the Vice President or the President pro tempore of the Senate, two of whom are members of the Committee on Appropriations of the Senate;

c. The Chairman of the Committee on Armed Services of the House of Representatives, or his designee;

d. Four other members of the House of Representatives designated by the Speaker of the House of Representatives, two of whom are members of the Committee on Appropriations of the House of Representatives; and

e. Six persons designated by the President.

Board members designated by the President shall serve for three years each, except that any member whose term of office has expired shall continue to serve until his successor is appointed. In addition, the President shall designate two persons each year to succeed the members whose terms expire that year.

If a Board member dies or resigns, a successor shall be designated for the unexpired portion of the term by the official who designated the member. The DoD, through the Department of the Navy, provides support, as deemed necessary, for the performance of the Board's functions, and ensures compliance with the requirements of FACA, the Government in the Sunshine Act, governing Federal statutes and regulations, and established DoD policies/procedures.

The Secretary of the Navy shall select the Board's Chair from the total membership.

With the exception of travel and per diem for official travel, Board members shall serve without compensation.

The Board, pursuant to 10 U.S.C. 6968(g) and (h), may, upon approval by the Secretary of the Navy, call in advisers for consultation, and these advisers shall, with the exception of travel and per diem for official travel, serve without compensation.

The Department, when necessary and consistent with the Board's mission and DoD policies and procedures, may establish subcommittees, task groups, or working groups to support the Board. Establishment of Subcommittees will be based upon written determination, to include terms of reference, by the Secretary of Defense, the Deputy Secretary of Defense, or the Board's sponsor.

Such subcommittees or workgroups shall not work independently of the chartered Board, and shall report all of their recommendations and advice solely to the Board for full deliberation and discussion. Subcommittees, task forces, or working groups have no authority to make decisions and recommendations, verbally or in writing, on behalf of the chartered Board; nor can any subcommittee or its members update or report, verbally or in writing, directly to the DoD or any Federal officers or employees.

All subcommittee members shall be appointed by the Secretary of Defense according to governing DoD policies/procedures even if the member in question is already a Board member. Such individuals shall be appointed to serve as experts and consultants under the authority of 5 U.S.C. 3109, and shall serve as special government employees. Subcommittee members, with the approval of the Secretary of Defense, may serve a term of service on the subcommittee of one-to-four years; however, no member shall serve more than two consecutive terms of service on the Subcommittee, unless authorized by the Secretary of Defense. All subcommittee members appointments must be renewed on an annual basis. With the exception of travel and per diem, subcommittee members shall serve without compensation.

All subcommittees, task forces, or working groups shall operate under the provisions of FACA, the Government in the Sunshine Act, governing Federal statutes and regulations, and governing DoD policies/procedures.

The estimated number of Board meetings is four per year.

The Board's Designated Federal Officer (DFO), pursuant to DoD policy, shall be a full-time or permanent part-time DoD employee, and shall be appointed in accordance with established DoD policies/procedures. In addition, the Board's DFO is required to attend all Board and subcommittee meetings for the entire duration of each and every meeting. However, in the absence of the Board's DFO, a properly approved Alternate DFO, duly appointed to the Board according to the DoD policies/procedures, shall attend the entire duration of the Board or subcommittee meeting.

The DFO, or the Alternate DFO, shall call all of the Board's and subcommittee's meetings; prepare and approve all meeting agendas; adjourn any meeting when the DFO, or Alternate DFO, determines adjournment to be in the public interest or required by governing regulations or DoD policies/procedures; and chair meetings when directed to do so by the Secretary of the Navy.

Pursuant to 41 CFR 102-3.105(j) and 102-3.140, the public or interested organizations may submit written statements to United States Naval Academy Board of Visitors membership about the Board's mission and functions. Written statements may be submitted at any time or in response to the stated agenda of planned meeting of the United States Naval Academy Board of Visitors.

All written statements shall be submitted to the DFO for the United States Naval Academy Board of Visitors, and this individual will ensure that the written statements are provided to the membership for their consideration. Contact information for the United States Naval Academy Board of Visitors DFO can be obtained from the GSA's FACA Database— http://www.facadatabase.gov/.

The DFO, pursuant to 41 CFR 102-3.150, will announce planned meetings of the United States Naval Academy Board of Visitors. The DFO, at that time, may provide additional guidance on the submission of written statements that are in response to the stated agenda for the planned meeting in question.

Dated: November 13, 2014.
Aaron Siegel,
Alternate OSD Federal Register Liaison Officer, Department of Defense.

[FR Doc. 2014-27238 Filed 11-17-14; 8:45 am]

BILLING CODE 5001-06-P